INTERNATIONAL TRADE COMMISSION

[Investigation No. 332-288]

Ethyl Alcohol for Fuel Use: Determination of the Base Quantity of Imports

AGENCY: International Trade Commission.

ACTION: Notice of determination.

EFFECTIVE DATE: December 13, 2002.

SUMMARY: Section 7 of the Steel Trade Liberalization Program Implementation Act, as amended (19 U.S.C. 2703 note), which concerns local feedstock requirements for fuel ethyl alcohol imported by the United States from CBI-beneficiary countries, requires the Commission to determine annually the U.S. domestic market for fuel ethyl alcohol during the 12-month period ending on the preceding September 30. The domestic market determination made by the Commission is to be used to establish the “base quantity” of imports that can be imported with a zero percent local feedstock requirement. The base quantity to be used by the U.S. Customs Service in the administration of the law is the greater of 60 million gallons or 7 percent of U.S. consumption as determined by the Commission. Beyond the base quantity of imports, progressively higher local feedstock requirements are placed on imports of fuel ethyl alcohol and mixtures from the CBI-beneficiary countries.

For the 12-month period ending September 30, 2002, the Commission has determined the level of U.S. consumption of fuel ethyl alcohol to be 1.89 billion gallons. Seven percent of this amount is 132.5 million gallons (these figures have been rounded). Therefore, the base quantity for 2003 should be 132.5 million gallons.

FOR FURTHER INFORMATION CONTACT: Jonathan Coleman (202) 205-3465, jcoleman@usitc.gov, in the Commission's Office of Industries. For information on legal aspects of the investigation contact Mr. William Gearhart, wgearhart@usitc.gov, in the Commission's Office of the General Counsel at (202) 205-3091.

Hearing-impaired individuals are advised that information on this matter can be obtained by contacting our TDD terminal on (202) 205-1810.

Background: For purposes of making determinations of the U.S. market for fuel ethyl alcohol as required by section 7 of the Act, the Commission instituted Investigation No. 332-288, Ethyl Alcohol for Fuel Use: Determination of the Base Quantity of Imports, in March 1990. The Commission uses official statistics of the U.S. Department of Energy to make these determinations as well as the PIERS database of the Journal of Commerce, which is based on U.S. export declarations.

Section 225 of the Customs and Trade Act of 1990 (Public Law 101-382, August 20, 1990) amended the original language set forth in the Steel Trade Liberalization Program Implementation Act of 1989. The amendment requires the Commission to make a determination of the U.S. domestic market for fuel ethyl alcohol for each year after 1989.

By order of the Commission.
Issued: December 16, 2002.
Marilyn R. Abbott,
Secretary.

[FR Doc. 02-31986 Filed 12-18-02; 8:45 am]

BILLING CODE 7020-02-P